DEPARTMENT OF COMMERCE

National Oceanic and Atmospheric Administration

RIN 0648-XT26

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors in January 2010. The intent of this meeting is to discuss issues of relevance to the Councils, including FY 2010 budget allocations and budgetary planning, the Ocean Policy Task Force, Marine Spatial Planning, the draft Catch Shares Task Force Report, and implementation of the Magnuson-Stevens Fishery Conservation and Management Act (Magnuson-Stevens Act).

DATES: The meeting will begin at 9 a.m. on Wednesday, January 13, 2010, recess at 5:30 p.m. or when business is complete; and reconvene at 8:30 a.m. on Thursday, January 14, 2010, and adjourn by 4:30 p.m. or when business is complete.

ADDRESSES: The meeting will be held at the Hotel Monaco, 700 F Street, NW., Washington, DC 20004, telephone 202-628-7177, fax 202-628-7277.

FOR FURTHER INFORMATION CONTACT: William D. Chappell: telephone 301-713-2337 or e-mail at William.Chappell@noaa.gov; or Tara Scott: telephone 301-713-2337 or e-mail at Tara.Scott@noaa.gov.

SUPPLEMENTARY INFORMATION: The Magnuson-Stevens Fishery Conservation and Management Reauthorization Act (MSRA) of 2006 established the Council Coordination Committee (CCC) by amending Section 302 (16 U.S.C. 1852) of the Magnuson-Stevens Act. The committee consists of the chairs, vice chairs, and executive directors of each of the eight Regional Fishery Management Councils authorized by the Magnuson-Stevens Act or other Council members or staff. NMFS will host this meeting and provide reports to the CCC for its information and discussion. The main topics of discussion will be the FY2010 budget allocation and budgetary planning, the Ocean Policy Task Force, Marine Spatial Planning, the draft Catch Shares Task Force Report, implementation of the provisions of the MSRA, and related guidance and technical regulatory changes. All sessions are open to the public.

Proposed Agenda

January 13, 2010

9 a.m. Morning Session Begins.

9-10:15 Welcome comments and open session with Councils.

10:15-10:30 Break.

10:30-11 Open Session with Councils (Continued).

11-11:30 National Environmental Policy Act (NEPA) Update.

11:30-1 Lunch.

1 Afternoon Session Begins.

1—2:30 Catch Shares Task Force Report.

2:30-3:30 Budget issues (General update and FY 2010 allocation).

• Council base funding.

• Limited Access Privilege Programs funding.

• Stipends.

3:30-3:45 Break.

3:45-4:45 Budget issues (Continued).

4:45-5:15 Gap Analysis.

5:15 Adjourn for the Day.

Thursday January 14, 2010

8:30 a.m. Morning Session Begins.

8:30-9:15 Essential Fish Habitat 5-Year Review.

9:15 -10:15 National Scientific and Statistical Committees (SSC) Meeting Report.

10:15-10:30 a.m. Break.

10:30-11:30 p.m. Ocean Policy Task Force and Marine Spatial Planning.

11:30-1 Lunch.

1 Afternoon Session Begins.

1-2 Marine Recreational Information Program (MRIP) Update.

2-3 Other Issues.

• Communications.

• Posting of meeting transcripts.

• Statement of Organizations, Practices and Procedures (SOPPs).

3-3:15 Break.

3:15-3:45 May Council Coordination Committee (CCC) Agenda.

3:45-4 Wrap-up.

4 p.m. Adjourn.

The order in which the agenda items are addressed may change. The CCC will meet as late as necessary to complete scheduled business.

Special Accommodations

This meeting is physically accessible to people with disabilities. Requests for sign language interpretation or other auxiliary aids should be directed to Tara Scott at 301-713-2337 x177 at least 5 working days prior to the meeting.

Dated: December 22, 2009.
Alan D. Risenhoover,
Director, Office of Sustainable Fisheries, National Marine Fisheries Service.

[FR Doc. E9-30694 Filed 12-24-09; 8:45 am]

BILLING CODE 3510-22-P